DEPARTMENT OF THE INTERIOR

Bureau of Reclamation

Lake Casitas Resource Management Plan, Ventura County, CA

AGENCY: Bureau of Reclamation, Interior.

ACTION: Notice of Intent to prepare a draft environmental impact statement (EIS).

SUMMARY: Pursuant to section 102(2) (c) of the National Environmental Policy Act (NEPA), the Bureau of Reclamation proposes to prepare a draft environmental impact statement (DEIS) for Lake Casitas Resource Management Plan (RMP), which will be issued concurrent with the DEIS. Reclamation will be conducting two public scoping meetings to elicit comments on the scope and issues to be addressed in both the RMP and EIS. The date and time of these meetings are listed below. Reclamation is also seeking written comments, as noted below. The Draft RMP and DEIS are expected to be issued in late 2004.

DATES: Submit written comments on or before September 23, 2003.

The two scoping meetings will be held as follows:

• September 24, 2003, at 7 p.m., Ojai, CA 93023

• September 25, 2003, at 7 p.m., Ventura, CA 93001

ADDRESSES: Written comments on the scope of the RMP and DEIS should be sent to Mr. Dan Holsapple, Bureau of Reclamation, South-Central California Area Office, 1243 N Street, Fresno, CA 93721-1813; or by telephone at 559-487-5409; or faxed to 559-487-5130 (TDD 559-487-5933).

The meeting locations are:

• Ojai, California, at the Soule Golf Course, Banquet Room, 1033 East Ojai Avenue

• Ventura, California, at the E.P. Foster Library, Topping Room, 651 East Main Street

FOR FURTHER INFORMATION CONTACT: Mr. Dan Holsapple, Bureau of Reclamation, 559-487-5409.

SUPPLEMENTARY INFORMATION: The Casitas Project (originally called the Ventura Project) was constructed in the early 1950's by Reclamation on behalf of Ventura County and Casitas Municipal Water District (Casitas). The project includes Casitas Dam, Lake Casitas, the developed Recreation Area at the north end of the lake, and the Open Space Lands north of the lake, purchased in the late 1970's. Casitas operates the dam and manages the Open Space Lands under contracts with Reclamation. Casitas manages the Recreation Area, although a formal contract has not been established with Reclamation to date.

Reclamation is preparing a RMP for government lands associated with the Casitas Project, including the Recreation Area. The RMP will include long-term management actions to protect natural resources while maintaining and enhancing recreational opportunities. The RMP will be used to guide the development of a long-term recreation contract between Reclamation and the non-Federal Managing Partner, Casitas.

The RMP will specifically address the Recreation Area, the entire lake, and all government land surrounding the lake. The objective of an RMP is to establish management objectives, guidelines, and actions to be implemented by Reclamation directly, or through its recreation contract with Casitas, that will protect the water supply and water quality functions of Lake Casitas; protect and enhance natural and cultural resources in the Recreation Area consistent with Federal law and Reclamation policies; and provide recreational opportunities and facilities consistent with the Project purposes and Reclamation policies.

The development of the RMP will be performed within the authorities provided by the Congress through the Reclamation Act, Federal Water Project Recreation Act, Reclamation Recreation Management Act, and applicable agency and Department of the Interior policies.

The RMP will be developed based on a comprehensive inventory of environmental resources and Project facilities. It will include an analysis of the natural resources of the area, the identification of land use suitability and capability, and the development of management policies, objectives, responsibilities, guidelines, and plans. The overall purpose of an RMP is to foster stewardship of Reclamation lands. The RMP will enable managers to make land-use and resource decisions that are consistent with the overall management objectives of Reclamation land and water areas and the needs of the public. The RMP will assist Reclamation in minimizing conflicts among the competing interests and types of use at Lake Casitas.

The plan will be developed with input from various agencies and parties, including (but not limited to) U.S. Fish and Wildlife Service and National Marine Fisheries Service, Ventura County (various departments), Casitas, City of Ojai, environmental and community groups, and the public. The plan will be used to guide future recreational uses and administrative arrangements to be considered by Reclamation in the establishment of a recreation contract with Casitas.

The primary emphasis of the RMP will be protecting Project water supply, water quality, and natural resources, while enhancing recreational uses at and surrounding the lake. Specific issue areas to be addressed include (among others): management of the Casitas Open Space lands north of Highway 150 to protect water quality; improvements and expansion of recreational facilities in the Recreation Area; potential new trails surrounding the lake; expanded areas for boat fishing; protection of sensitive natural and cultural resources; coordination with adjacent activities on the National Forest; and fire management practices.

The environmental impacts of the RMP and associated alternatives will be assessed in an EIS that will be prepared concurrent with the RMP. The environmental review will focus on the potential for management actions to cause adverse environmental impacts to natural and cultural resources such as water quality, endangered species, public safety, and historic resources. It will include an analysis of alternative land, recreation, and natural resource management approaches.

Reclamation practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: July 3, 2003.
Robert Eckart,
Chief, Environmental Compliance Branch, Mid-Pacific Region.

[FR Doc. 03-18952 Filed 7-24-03; 8:45 am]

BILLING CODE 4310-MN-P